DEPARTMENT OF THE INTERIOR

National Park Service

Notice of Intent To Prepare a General Management Plan and Draft Environmental Impact Statement for Tuskegee Airmen National Historic Site

SUMMARY: The National Park Service will prepare an Environmental Impact Statement on the General Management Plan for Tuskegee Airmen National Historic Site. This notice is being published in accordance with 40 CFR 1506.6. The statement will assess potential environmental impacts associated with various types and levels of visitor use and resources management within the National Historic Site. This General Management Plan/Environmental Impact Statement is being prepared in response to the requirements of the National Historic Site's enabling legislation, Pub. L. 105-355, the National Parks and Recreation Act of 1978, Pub. L. 95-625, and in accord with Director's Order Number 2, the planning directive for National Park Service units.

The National Park Service will conduct public scoping meetings in the local area to receive input from interested parties on issues, concerns, and suggestions pertinent to the management of Tuskegee Airmen National Historic Site. Representatives of the National Park Service will be available to discuss issues, resource concerns, and the planning process at each of the public meetings. Suggestions and ideas for managing the cultural and natural resources and visitor experiences at the park are encouraged. Anonymous comments will not be considered. We will make all submissions from organizations or businesses, and from individuals identifying themselves as representatives or officials of organizations or businesses, available for public inspection in their entirety. However, individual respondents may request that we withhold their names and addresses from the public record, and we will honor such requests to the extent allowed by law. If you wish to withhold your name and/or address, you must state that request prominently at the beginning of your comment.

DATES: Locations, dates, and times of public scoping meetings will be published in local newspapers and may also be obtained by contacting the park Site Manager. This information will also be published on the General Management Plan Web site (http://www.nps.gov/tuai) for Tuskegee Airmen National Historic Site.

ADDRESSES: Scoping suggestions should be submitted to the following address to ensure adequate consideration by the National Park Service: Site Manager, Tuskegee Airmen National Historic Site, 1616 Chief Anderson Drive, P.O. Box 830918, Tuskegee Institute, AL 36088, Telephone: 334-724-0922, e-mail: Tuin_Superintendent@nps.gov.

FOR FURTHER INFORMATION CONTACT: Site Manager, Tuskegee Airmen National Historic Site, 1616 Chief Anderson Drive, P.O. Box 830918, Tuskegee Institute, AL 36088, Telephone: 334-724-0922, e-mail: Tuin_Superintendent@nps.gov.

SUPPLEMENTARY INFORMATION: Before 1940, African Americans were barred from flying for the U.S. military. Civil rights organizations and the black press exerted pressure that resulted in the formation of an all African-American pursuit squadron based in Tuskegee, Alabama in 1941. They became known as the Tuskegee Airmen. The Tuskegee Airmen overcame segregation and prejudice to become one of the most highly respected fighter groups of World War II. They proved conclusively that African Americans could fly and maintain sophisticated combat aircraft. The Tuskegee Airmen's achievements, together with the men and women who supported them, paved the way for full integration of the U.S. military. The Tuskegee Airmen National Historic Site at Moton Field in Tuskegee, Alabama, was established on November 6, 1998, with the signing of Public Law 105-355. The park was created to commemorate and interpret the heroic actions of the Tuskegee Airmen during World War II.

A General Management Plan and Environmental Impact Statement would provide the park with guidance and direction to manage natural and cultural resources and to provide a quality visitor experience. This will be the National Historic Site's first General Management Plan. The plan will establish management prescriptions, carrying capacities, and appropriate types and levels of development and recreational use for all areas of the park. Resource protection, visitor experiences and community relationships will be improved through completion and implementation of the General Management Plan.

Public documents associated with the planning effort, including all newsletters, will be posted on the Internet through the park's Web site at http://www.nps.gov/tuai.

The Draft and Final General Management Plan and Environmental Impact Statement will be made available to all known interested parties and appropriate agencies. Full public participation by Federal, State, and local agencies as well as other concerned organizations and private citizens is invited throughout the preparation process of this document.

The responsible official for this Environmental Impact Statement is Patricia A. Hooks, Acting Regional Director, Southeast Region, National Park Service, 100 Alabama Street, SW., 1924 Building, Atlanta, Georgia 30303.

Dated: January 6, 2004.
Patricia A. Hooks,
Acting Regional Director, Southeast Region.

[FR Doc. 04-4134 Filed 2-24-04; 8:45 am]

BILLING CODE 4310-E7-P